PEACE CORPS

Information Collection Request; Submission for OMB Review

AGENCY: Peace Corps.

ACTION: 30-day notice and request for comments.

SUMMARY: The Peace Corps will be submitting the following information collection requests to the Office of Management and Budget (OMB) for Extension without change of a currently approved information collection. In compliance with the Paperwork Reduction Act of 1995 (44 U.S.C. Chapter 35), the Peace Corps invites the general public to comment on the extension, without change, of currently approved information collection, Peace Corps Volunter Health History Form (OMB 0420-0510). This process is conducted in accordance with 5 CFR 1320.10. Peace Corps received no comments during the 60-day notice.

DATES: Comments regarding this collection must be received on or before March 12, 2014.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street NW., Washington, DC 20526, (202) 692-1236, or email at pcfr@mailto:ddunevant@peacecorps.govpeacecorps.gov.

SUPPLEMENTARY INFORMATION:

Method: The Health History Form will be completed online in an interactive process in which only questions relevant to each Applicant's medical history (based on responses to previous questions) are presented.

Title: Peace Corps Volunter Health History form (PC 1789).

OMB Control Number: 0420-0510.

Type of Request: Extension without change of a currently approved collection.

Affected Public: Individuals or households

Respondents Obligation To Reply: Voluntary

Burden to the Public:

a. Estimated number of respondents | 10,000
b. Estimated average burden per response | 45 minutes
c. Frequency of response | one time
d. Annual reporting burden | 7,500 hours
e. Estimated annual cost to respondents | Indeterminate

General Description of Collection: The Peace Corps Act requires that Volunteers receive health examinations prior to their service. The information collected is required for consideration for Peace Corps Volunteer service. The Health History Form is used to document the medical history of each individual Applicant. It is a self-report of pre-existing medical conditions and is used to help determine whether the Applicant will, with reasonable accommodation, be able to perform the essential functions of a Peace Corps Volunteer and complete a tour of service without undue disruption due to health problems.

Request For Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC on February 3, 2014.
Denora Miller,
FOIA/Privacy Act Officer, Management.

[FR Doc. 2014-02723 Filed 2-7-14; 8:45 am]

BILLING CODE 6051-01-P